DEPARTMENT OF HOUSING AND URBAN DEVELOPMENT

[Docket No. FR-7034-N-36]

30-Day Notice of Proposed Information Collection: Continuum of Care (CoC) Homeless Assistance Grant Application; OMB Control No.: 2506-0112

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 6, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on December 14, 2020 at 85 FR 80814.

A. Overview of Information Collection

Title of Information Collection: Continuum of Care (CoC) Homeless Assistance Grant Application.

OMB Approval Number: 2506-0112.

Type of Request: Revision of currently approved collection.

Form Number: NA.

Description of the need for the information and proposed use: This submission is to request an extension of an existing collection in use without an OMB Control Number for the Recordkeeping for HUD's Continuum of Care Program. The CoC application has three parts: The CoC application, CoC Priority Listing that lists all project applications with a rank number determined by CoCs in their local competition process, and project applications. HUD requires the submission of CoC applications from Collaborative Applicants to capture information related to the CoC's overall performance toward addressing homelessness (e.g., reducing the number of homelessness, increasing income), coordination with other federal and non-federal partners, planning process (e.g., reducing homelessness, length of time homeless), and other criteria required by the statute and current Administration policies. The information provided in CoC applications is reviewed and scored by HUD to determine the order in which HUD will select projects based on the ranking communicated in the CoC Priority Listing. The CoC Priority Listing collection notifies HUD if CoCs are reallocating current projects to create new projects and most importantly, to rank project applications with a unique number for funding consideration by HUD and determines the order in which projects are selected in order of each CoC. Project applications collect information for eligibility and quality threshold review to determine suitability for funding consideration. Successful project applications selected for award receiving funding to carry out the activities approved by HUD. The statutory and regulatory requirements related to the CoC Program and applicable supplementary documents are located on the CoC Program page on HUD's website.

Information collection | Number of respondents | Frequency of response | Responses per annum | Burden hour per response | Annual burden hours | Hourly cost per response | Annual cost
CoC Applications
CoC HIC (includes Subpopulation Extrapolation Tool, Stratified Extrapolation Tool, Housing Inventory Chart, and a General Extrapolation Tool) | 405 | 1 | 405 | 8 | 3,240 | $41.37 | $134,038.80
CoC PIT Process | 405 | 1 | 405 | 8 | 3,240 | 41.37 | 134,038.80
CoC Application | 405 | 1 | 405 | 50 | 20,250 | 41.37 | 837,742.50
CoC Priority Listing and Reallocation Forms | 405 | 1 | 405 | 15 | 6,075 | 41.37 | 251,322.75
HUD-2991 | 405 | 1 | 405 | 3 | 1,215 | 41.37 | 50,264.55
Subtotal CoC Application | 405 | 1 | 405 | 84 | 34,020 | 41.37 | 1,407,407.40
Project Applications
Renewal Project | 7,300 | 1 | 7,300 | 0.50 | 3,650 | 41.37 | 151,000.50
New Project | 803 | 1 | 803 | 1.50 | 1,204.50 | 41.37 | 49,830.17
Renewal YHPD Project | 200 | 1 | 200 | 1.50 | 300 | 41.37 | 12,411.00
Replacement YHDP Project | 80 | 1 | 80 | 2 | 160 | 41.37 | 6,619.20
CoC Planning | 405 | 1 | 405 | 1.50 | 607.50 | 41.37 | 25,132.28
UFA Costs | 12 | 1 | 12 | 1 | 12 | 41.37 | 496.44
SF-424 | 8,800 | 1 | 8,800 | 0.05 | 440 | 41.37 | 18,202.80
HUD-2880 | 8,800 | 1 | 8,800 | 0.05 | 440 | 41.37 | 18,202.80
HUD-50070 | 8,800 | 1 | 8,800 | 0.05 | 440 | 41.37 | 18,202.80
SF LLL | 8,800 | 1 | 8,800 | 0.05 | 440 | 41.37 | 18,202.80
Certification of Lobbying | 8,800 | 1 | 8,800 | 0.05 | 440 | 41.37 | 18,202.80
HUD-40090-4 | 8,800 | 1 | 8,800 | 0.05 | 440 | 41.37 | 18,202.80
Subtotal Project Applications Submissions | 8,800 | 1 | 8,800 | 8.3 | 8,574 | 41.37 | 354,706.38
CoC and Project Applications Overall Total
Total for CoC and Project Applications | 9,205 | 1 | 9,205 | 92.3 | 42,594 | 41.37 | 1,762,113.78

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-14378 Filed 7-6-21; 8:45 am]

BILLING CODE 4210-67-P